DEPARTMENT OF COMMERCE

International Trade Administration

[A-570-601]

Tapered Roller Bearings and Parts Thereof, Finished and Unfinished, From the People's Republic of China: Preliminary Results and Intent To Rescind the Review in Part; 2016-2017

AGENCY: Enforcement and Compliance, International Trade Administration, Department of Commerce.

SUMMARY: The Department of Commerce (Commerce) is conducting an administrative review (AR) of the antidumping duty order on tapered roller bearings and parts thereof, finished and unfinished (TRBs), from the People's Republic of China (China). The AR covers 20 exporters, of which Commerce selected two exporters for individual examination (i.e., GGB Bearing Technology (Suzhou) Co., Ltd. (GGB); and Luoyang Bearing Corporation (Group) (Luoyang)). The period of review (POR) is June 1, 2016, through May 31, 2017. We preliminarily determine that sales of subject merchandise have been made below normal value (NV). Interested parties are invited to comment on these preliminary results.

DATES: Applicable July 12, 2018.

FOR FURTHER INFORMATION CONTACT: Andrew Medley, Enforcement and Compliance, International Trade Administration, U.S. Department of Commerce, 1401 Constitution Avenue NW, Washington, DC 20230; telephone: (202) 482-4987.

SUPPLEMENTARY INFORMATION:

Scope of the Order

The merchandise covered by the order includes tapered roller bearings and parts thereof. The subject merchandise is currently classifiable under Harmonized Tariff Schedule of the United States (HTSUS) subheadings: 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. The HTSUS subheadings are provided for convenience and customs purposes only; the written description of the scope of the order is dispositive.¹

¹ For a complete description of the scope of the order, see Memorandum, “Decision Memorandum for the Preliminary Results of the 2016-2017 Antidumping Duty Administrative Review of Tapered Roller Bearings and Parts Thereof, Finished and Unfinished, from the People's Republic of China” (Preliminary Decision Memorandum), issued concurrently with and hereby adopted by this notice.

Methodology

Commerce is conducting this review in accordance with section 751(a)(1)(B) of the Act. For GGB, we calculated export prices in accordance with section 772 of the Act. Because China is a non-market economy (NME) within the meaning of section 771(18) of the Act, for GGB, NV was calculated in accordance with section 773(c) of the Act. We preliminary find that Luoyang is ineligible for a separate rate and is part of the China-wide entity.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be found at http://enforcement.trade.gov/frn/. The signed Preliminary Decision Memorandum and the electronic version of the Preliminary Decision Memorandum are identical in content. A list of the topics discussed in the Preliminary Decision Memorandum is attached as the Appendix to this notice.

Rate for Non-Examined Companies Which Are Eligible for a Separate Rate

As indicated in the “Preliminary Results of Review” section below, we preliminarily determine that a weighted-average dumping margin of 6.87 percent applies to the six firms not selected for individual review which are eligible for a separate rate. For further information, see the Preliminary Decision Memorandum at “Separate Rate Assigned to Non-Selected Companies.”

Preliminary Results of Review

Twelve companies involved in the administrative review did not demonstrate that they are entitled to a separate rate.² Therefore, we preliminarily finds these companies to be part of the China-wide entity.³ The rate previously established for the China-wide entity is 92.84 percent. One additional company, Hangzhou Xiaoshan Dingli Machinery Co., Ltd. (Dingli), could not demonstrate that it had a suspended entry during the POR; thus, we intend to rescind the review with respect to Dingli.

² These companies are: (1) Apex Maritime Shanghai Co., Ltd.; (2) Crossroads Global Trading Co., Ltd.; (3) Honour Lane Shipping Ltd.; (4) Kinetsu World Express China Co., Ltd.; (5) Luoyang; (6) Pacific Link Intl Freight Forwarding Co., Ltd.; (7) Shanghai Dizhao Industrial Trading Co., Ltd.; (8) Thi Group Shanghai Ltd.; (9) Weifang Haoxin-Conmet Mechanical Products Co., Ltd.; (10) Yantai Huilong Machinery Parts Co.; Ltd.; (11) Zhejiang Machinery Import & Export Corp.; and (12) Zhejiang Zhaofeng Mechanical & Electronic Co., Ltd.

³ See Preliminary Decision Memorandum, at 8. Pursuant to Commerce's change in practice, Commerce no longer considers the NME entity as an exporter conditionally subject to administrative reviews. See Antidumping Proceedings: Announcement of Change in Department Practice for Respondent Selection in Antidumping Duty Proceedings and Conditional Review of the Nonmarket Economy Entity in NME Antidumping Duty Proceedings, 78 FR 65963, 65970 (November 4, 2013). Under this practice, the NME entity will not be under review unless a party specifically requests, or Commerce self-initiates, a review of the entity. Because no party requested a review of the entity, the entity is not under review and the entity's rate is not subject to change.

We preliminarily determine that the following weighted-average dumping margins exist for the period June 1, 2016, through May 31, 2017:

Exporter | Weighted- average dumping margin (percent)
GGB Bearing Technology (Suzhou) Co., Ltd | 6.87
CNH Industrial Italia SpA * | 6.87
GSP Automotive Group Wenzhou Co. Ltd * | 6.87
Hangzhou Hanji Auto Parts Co., Ltd * | 6.87
Hangzhou Radical Energy-Saving Technology Co., Ltd * | 6.87
Ningbo Xinglun Bearings Import & Export Co., Ltd * | 6.87
Zhejiang Sihe Machine Co., Ltd * | 6.87
* This company was not selected as a mandatory respondent but is subject to this administrative review and demonstrated that it qualified for a separate rate during the POR.

Disclosure and Public Comment

Commerce will disclose calculations performed for these preliminary results to the parties within five days of the date of publication of this notice in accordance with 19 CFR 351.224(b). Interested parties may submit case briefs no later than 30 days after the date of publication of these preliminary results of review.⁴ Rebuttals to case briefs may be filed no later than five days after case briefs are filed and all rebuttal briefs must be limited to comments raised in the case briefs.⁵ Parties who submit comments are requested to submit with the argument: (1) A statement of the issue; (2) a brief summary of the argument; and (3) a table of authorities.⁶

⁴ See 19 CFR 351.309(c)(1)(ii).

⁵ See 19 CFR 351.309(d).

⁶ See 19 CFR 351.309(c)(2).

Any interested party may request a hearing within 30 days of publication of this notice.⁷ Hearing requests should contain the following information: (1) The party's name, address, and telephone number; (2) the number of participants; and (3) a list of the issues to be discussed. Oral presentations will be limited to issues raised in the briefs.⁸ If a request for a hearing is made, parties will be notified of the time and date for the hearing to be held at the U.S. Department of Commerce, 1401 Constitution Avenue NW, Washington, DC 20230.⁹

⁷ See 19 CFR 351.310(c).

⁸ Id.

⁹ See 19 CFR 351.310(d).

All submissions, with limited exceptions, must be filed electronically using ACCESS. An electronically filed document must be received successfully in its entirety by 5 p.m. Eastern Time (ET) on the due date.¹⁰ Documents excepted from the electronic submission requirements must be filed manually (i.e., in paper form) with the APO/Dockets Unit in Room 18022 and stamped with the date and time of receipt by 5 p.m. ET on the due date.¹¹

¹⁰ See 19 CFR 351.103(c).

¹¹ See 19 CFR 351.303(b) and “ACCESS Handbook on Electronic Filing Procedures Enforcement and Compliance International Trade Administration U.S. Department of Commerce,” dated October 24, 2017, available at https://access.trade.gov/help/Handbook_on_Electronic_Filing_Procedures.pdf.

Unless otherwise extended, Commerce intends to issue the final results of this administrative review, which will include the results of its analysis of all issues raised in the case briefs, within 120 days of publication of these preliminary results, pursuant to section 751(a)(3)(A) of the Act.

Assessment Rates

Upon issuance of the final results of the administrative review, Commerce will determine, and CBP shall assess, antidumping duties on all appropriate entries covered by this review.¹² For each examined respondent which is eligible for a separate rate and which has a weighted-average dumping margin which is not zero or de minimis (i.e., less than 0.5 percent), we will calculate importer-specific ad valorem duty assessment rates based on the ratio of the total amount of dumping calculated for the importer's examined sales to the total entered value of those sales, in accordance with 19 CFR 351.212(b)(1).

¹² See 19 CFR 351.212(b)(1).

Pursuant to Commerce's assessment practice, for entries that were not reported in the U.S. sales data submitted by an examined respondent, we will instruct CBP to liquidate such entries at the China-wide rate. Additionally, if we determine that an exporter had no shipments of the subject merchandise, any suspended entries that entered under that exporter's case number (i.e., at that exporter's cash deposit rate) will be liquidated at the China-wide rate.¹³

¹³ See Non-Market Economy Antidumping Proceedings: Assessment of Antidumping Duties, 76 FR 65694 (October 24, 2011).

For the respondents which were not selected for individual examination in this administrative review and which qualified for a separate rate, the assessment rate will be equal to the weighted-average dumping margin determined for the non-examined respondents in the final results of this administrative review. For the final results, if we continue to treat the 12 exporters preliminarily found not to qualify for separate rates as part of the China-wide entity, we will instruct CBP to apply an ad valorem assessment rate of 92.84 percent, the current rate established for the China-wide entity, to all entries of subject merchandise during the POR which were exported by those companies. In addition, if Commerce continues to find that Dingli had no suspended entries during the POR, we will rescind the review for that company.¹⁴

¹⁴ For a full discussion of this practice, see Non-Market Economy Antidumping Proceedings: Assessment of Antidumping Duties, 76 FR 65694 (October 24, 2011).

We intend to issue assessment instructions to CBP 15 days after the publication of the final results of these reviews.

Cash Deposit Requirements

The following cash deposit requirements will be effective upon publication of the final results of this administrative review for all shipments of the subject merchandise entered, or withdrawn from warehouse, for consumption on or after the publication date, as provided for by section 751(a)(2)(C) of the Act: (1) For the exporters listed above which have a separate rate, the cash deposit rate will be equal to the weighted-average dumping margin established in the final results of this review (except, if the rate is zero or de minimis, then a cash deposit rate of zero will be established for that company); (2) for previously investigated or reviewed Chinese and non-Chinese exporters not listed above that have separate rates, the cash deposit rate will continue to be equal to the exporter-specific weighted-average dumping margin published for the most recently completed segment of this proceeding; (3) for all Chinese exporters of subject merchandise that have not been found to be entitled to a separate rate, the cash deposit rate will be the cash deposit rate established for the China-wide entity, 92.84 percent; and (4) for all exporters of subject merchandise which are not located in China and which are not eligible for a separate rate, the cash deposit rate will be the rate applicable to the Chinese exporter(s) that supplied that non-Chinese exporter. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these preliminary results of review in accordance with sections 751(a)(l), 751(a)(2)(B) and 777(i)(l) of the Act, and 19 CFR 351.221(b)(4).

Dated: July 3, 2018.
Gary Taverman,
Deputy Assistant Secretary for Antidumping and Countervailing Duty Operations, performing the non-exclusive functions and duties of the Assistant Secretary for Enforcement and Compliance.

Appendix—List of Topics Discussed in the Preliminary Decision Memorandum

1. Summary

2. Background

3. Scope of the Order

4. Discussion of the Methodology

a. Non-Market Economy Country Status

b. Separate Rates

i. Separate Rates Applicants with No Evidence of Suspended Entries

ii. Separate Rate Recipients

1. Wholly Foreign-Owned Companies

2. Wholly China-Owned Companies and Joint Ventures

a. Absence of De Jure Control

b. Absence of De Facto Control

3. Companies Not Receiving a Separate Rate

c. Separate Rate Assigned to Non-Selected Companies

d. The China-Wide Entity

e. Application of Facts Available and Use of Adverse Interferences

f. Application of Partial AFA for GGB

g. Surrogate Country

h. Date of Sale

i. Normal Value Comparisons

j. Determination of Comparison Method

k. Constructed Export Price

i. Irrecoverable Value-Added Tax (VAT)

ii. GGB

l. Normal Value

i. Factor Valuations

ii. Currency Conversion

5. Recommendation

[FR Doc. 2018-14924 Filed 7-11-18; 8:45 am]

BILLING CODE 3510-DS-P